DEPARTMENT OF HOUSING AND URBAN DEVELOPMENT

[Docket No. FR-5484-N-15]

Notice of Proposed Information Collection: Comment Request; HUD Housing Counseling Program—Agency Performance Review

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: June 28, 2011.

ADDRESSES: Interested persons are invited to submit comments regarding this proposal. Comments should refer to the proposal by name and/or OMB Control Number and should be sent to: Reports Liaison Officer, Department of Housing and Urban Development, 451 7th Street, SW., Washington, DC 20410, Room 9120 or the number for the Federal Information Relay Service (1-800-877-8339).

FOR FURTHER INFORMATION CONTACT: Program Contact, Ruth Román, Director, Program Support Division, Office of Single Family Housing, Department of Housing and Urban Development, 451 7th Street, SW., Room B-133, Plaza 2206, Washington, DC 20410, telephone (202) 402-2209 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: HUD Housing Counseling Program—Agency Performance Review.

OMB Control Number, if applicable: 2502-0574.

Description of the need for the information and proposed use: The Single Family Program Support Division is responsible for administration of the Department's Housing Counseling Program, authorized by Section 106 of the Housing and Urban Development Act of 1968 (12 U.S.C. 1701w and 1701x). The Housing Counseling Program supports the delivery of a wide variety of housing counseling services to homebuyers, homeowners, low- to moderate-income renters, and the homeless. The primary objectives of the program are to expand homeownership opportunities, preserve homeownership, and improve access to affordable housing. These services are provided by non-profit and government organizations. Their counselors provide guidance and advice to help families and individuals improve their housing conditions and meet the responsibilities of tenancy and homeownership. Counselors also help borrowers avoid predatory lending practices, such as inflated appraisals, unreasonably high interest rates, unaffordable repayment terms, and other conditions that can result in a loss of equity, increased debt, default, and foreclosure.

To participate in HUD's Housing Counseling program, a housing counseling agency must be approved by HUD (2502-0261), designated as a sub grantee or affiliate of a HUD-approved intermediary or multi-state organization, or be a state housing finance agency or affiliate or sub grantee of a state housing finance agency. Participation in the program entails meeting various requirements relating to experience and capacity, including nonprofit status, a minimum of one year of housing counseling experience in the target community, and sufficient resources to implement a housing counseling plan. In order to maintain approval to participate, housing counseling agencies must remain in compliance with program policies and regulations. Participating organizations are required to submit to HUD Quarterly 9902 progress reports (2502-0261) to report on the demographics, education, and outcomes of clients served.

HUD periodically conducts performance reviews of participating agencies to ensure that agencies are in compliance with the program policy and regulations governing the program. Housing Counseling Program requirements are set forth in 24 CFR 214, Housing Counseling Program, Revision-5 of Housing Counseling Program Handbook 7610.1, mortgagee letters, and grant agreements (if applicable). Findings from performance reviews are used to renew or disapprove the status of housing counseling agencies to participate in the program. The information is also used to assist HUD in evaluating the managerial and financial capacity of organizations to sustain operations sufficient to implement HUD approved housing counseling programs. The collection of information assists HUD to reduce its own risk from fraudulent activities or supporting inefficient or ineffective housing counseling programs. Since HUD publishes a web list of HUD approved Housing Counseling Agencies and maintains a toll free housing counseling hotline, performance reviews help HUD ensure that individuals seeking assistance from these participating agencies can have confidence in the quality of services that they will receive. Additionally, performance review findings are used as past performance indicators in the grant application review scoring process. Performance reviews also give HUD the opportunity to provide technical assistance to participating housing counseling agencies.

HUD employees use Agency Performance Review, Form HUD 9910 to perform and document on-site, desk, and remote monitoring reviews of agencies participating in the Housing Counseling Program. HUD staff uses the information collected on this performance review checklist to assess the management and financial capability of participating housing counseling agencies to carry out their missions relative to the HUD Housing Counseling Program. The information also assists HUD staff to detect any conflicts of interest or activities that may not be permissible. Additionally, this information helps HUD staff to assess whether participating organizations are meeting basic programmatic and grant administrative requirements and maintaining staff with the appropriate experience.

Most of the information required under this information collection is maintained by the affected organizations in the normal course of business with HUD and HUD ascribes no burden hours to recordkeeping. The requirements for recordkeeping and what information HUD expects to view when its staff conducts a performance review are set forth in the Housing Counseling Program Handbook 7610.1 Rev-5, Chapter 3. The information cited in the handbook is a tool for the participating organizations to use so that they can be prepared for HUD reviews.

HUD is seeking approval for the Agency Performance Review, Form HUD-9910. The form has been substantially revised to meet new program requirements, improve the quality and scope of the performance reviews conducted to better monitor the financial and administrative controls that agencies should have in place to effectively manage their programs, verify compliance with grant agreements, deter and discover conflicts of interest and to establish improved procedures to monitor the expenditure of HUD grant funds.

Agency form numbers, if applicable: HUD 9910.

Estimation of the total numbers of hours needed to prepare the information collection including number of respondents, frequency of response, and hours of response: The number of burden hours is 12,977. The number of respondents is 1,366 and the number of responses is 1,366. The frequency of response is periodic as determined by HUD, and the burden hour per response is 9.5.

Status of the proposed information collection: Revision of a currently approved collection.

Authority: The Paperwork Reduction Act of 1995, 44 U.S.C., Chapter 35, as amended.

Dated: April 26, 2011.
Ronald Y. Spraker,
Associate General Deputy Assistant Secretary for Housing.

[FR Doc. 2011-10457 Filed 4-28-11; 8:45 am]

BILLING CODE 4210-67-P